DEPARTMENT OF ENERGY

Federal Energy Regulatory Commission

Combined Notice of Filings #1

Take notice that the Commission received the following electric corporate filings:

Docket Numbers: EC17-134-000.

Applicants: Ameren Illinois Company.

Description: Application of Ameren Illinois Company for Authorization under Section 203 of the Federal Power Act and Request for Expedited Consideration.

Filed Date: 6/28/17.

Accession Number: 20170628-5195.

Comments Due: 5 p.m. ET 7/19/17.

Take notice that the Commission received the following exempt wholesale generator filings:

Docket Numbers: EG17-121-000.

Applicants: Cottonwood Wind Project, LLC.

Description: Notice of Self-Certification of Exempt Wholesale Generator Status of Cottonwood Wind Project, LLC.

Filed Date: 6/29/17.

Accession Number: 20170629-5045.

Comments Due: 5 p.m. ET 7/20/17.

Take notice that the Commission received the following electric rate filings:

Docket Numbers: ER10-2265-013; ER10-1581-019; ER10-2262-007; ER10-2346-009; ER10-2353-009; ER10-2355-009; ER10-2783-014; ER10-2784-014; ER10-2795-014; ER10-2798-014; ER10-2799-014; ER10-2801-014; ER10-2875-014; ER10-2878-014; ER10-2879-014; ER10-2880-014; ER10-2896-014; ER10-2913-014; ER10-2947-014; ER10-2969-014; ER10-3223-008; ER11-2062-022; ER11-2107-013; ER11-2108-013; ER11-2508-021; ER11-2805-021; ER11-2863-011; ER11-4307-022; ER11-4308-022; ER11-4351-009; ER12-261-021; ER13-1745-009; ER13-1788-009; ER13-1789-009; ER13-1801-009; ER13-1802-009; ER13-1965-012; ER14-1818-013; ER16-10 002.

Applicants: NRG Power Marketing LLC, Arthur Kill Power LLC, Astoria Gas Turbine Power LLC, Boston Energy Trading and Marketing LLC, Conemaugh Power LLC, Connecticut Jet Power LLC, Devon Power LLC, Dunkirk Power LLC, El Segundo Power, LLC, Energy Plus Holdings LLC, Forward WindPower LLC, GenOn Energy Management, LLC, GenOn Mid-Atlantic, LLC, Green Mountain Energy Company, Independence Energy Group LLC, Indian River Power LLC, Keystone Power LLC, Lookout Windpower, LLC, Middletown Power LLC, Midwest Generation, LLC, Montville Power LLC, NEO Freehold-Gen LLC, North Community Turbines LLC, North Wind Turbines LLC, NRG Bowline LLC, NRG Canal LLC, NRG Chalk Point CT LLC, NRG Chalk Point LLC, NRG Energy Center Dover LLC, NRG Energy Center Paxton LLC, NRG Power Midwest LP, NRG REMA LLC, NRG Wholesale Generation LP, Oswego Harbor Power LLC, Pinnacle Wind, LLC, Reliant Energy Northeast LLC, RRI Energy Services, LLC, Vienna Power LLC, Long Beach Peakers LLC.

Description: Updated Market Power Analysis of the NRG Northeast MBR Sellers.

Filed Date: 6/28/17.

Accession Number: 20170628-5202.

Comments Due: 5 p.m. ET 8/28/17.

Docket Numbers: ER15-1045-004.

Applicants: Pilot Hill Wind, LLC.

Description: Market-Based Triennial Review Filing: 2017 Triennial Market Power Update for Northeast Region—Pilot Hill Wind to be effective 7/1/2017.

Filed Date: 6/28/17.

Accession Number: 20170628-5181.

Comments Due: 5 p.m. ET 8/28/17.

Docket Numbers: ER16-2226-002; ER16-2227-003.

Applicants: Kelly Creek Wind, LLC, McHenry Battery Storage, LLC.

Description: Triennial Market Power Update for the Northeast Region of Kelly Creek Wind, LLC, et al.

Filed Date: 6/28/17.

Accession Number: 20170628-5210.

Comments Due: 5 p.m. ET 8/28/17.

Docket Numbers: ER17-1314-001; ER10-2398-005; ER10-2399-005; ER10-2406-006; ER10-2408-005; ER10-2409-005; ER10-2410-005; ER10-2411-006; ER10-2412-006; ER11-2935-007; ER13-1816-006; ER14-1933-005; ER16-1152-003; ER16-1724-002; ER17-1315-001.

Applicants: Arkwright Summit Wind Farm LLC, Blackstone Wind Farm, LLC, Blackstone Wind Farm II LLC, Headwaters Wind Farm LLC, High Trail Wind Farm, LLC, Jericho Rise Wind Farm LLC, Marble River, LLC, Meadow Lake Wind Farm LLC, Meadow Lake Wind Farm II LLC, Meadow Lake Wind Farm III LLC, Meadow Lake Wind Farm IV LLC, Meadow Lake Wind Farm V LLC, Paulding Wind Farm II LLC, Paulding Wind Farm III LLC, Sustaining Power Solutions LLC.

Description: Updated Market Power Analysis for the Northeast Region and Notice of Non-Material Change in Status of Arkwright Summit Wind Farm LLC, et. al.

Filed Date: 6/28/17.

Accession Number: 20170628-5204.

Comments Due: 5 p.m. ET 8/28/17.

Docket Numbers: ER17-1376-001.

Applicants: Midcontinent Independent System Operator, Inc.

Description: Compliance filing: 2017-06-29_Amendment to Stored Energy Resource-Type II Compliance to be effective 12/1/2017.

Filed Date: 6/29/17.

Accession Number: 20170629-5041.

Comments Due: 5 p.m. ET 7/20/17.

Docket Numbers: ER17-1935-000.

Applicants: Bruce Power Inc.

Description: § 205(d) Rate Filing: NE Category 1 Seller Request to be effective 6/29/2017.

Filed Date: 6/28/17.

Accession Number: 20170628-5164.

Comments Due: 5 p.m. ET 7/19/17.

Docket Numbers: ER17-1936-000.

Applicants: Southwest Power Pool, Inc.

Description: § 205(d) Rate Filing: Credit Policy Revisions to Increase Unsecured Credit Allowance Maximum to be effective 8/27/2017.

Filed Date: 6/28/17.

Accession Number: 20170628-5186.

Comments Due: 5 p.m. ET 7/19/17.

Docket Numbers: ER17-1937-000.

Applicants: Robison Energy, LLC.

Description: Baseline eTariff Filing: Robison Energy, LLC Market Based Rate Tariff to be effective 7/1/2017.

Filed Date: 6/29/17.

Accession Number: 20170629-5000.

Comments Due: 5 p.m. ET 7/20/17.

Docket Numbers: ER17-1938-000.

Applicants: Southern California Edison Company.

Description: § 205(d) Rate Filing: Two LA's Gabriel Solar 1 & 2 Projects SA Nos. 966 & 967 to be effective 6/27/2017.

Filed Date: 6/29/17.

Accession Number: 20170629-5004.

Comments Due: 5 p.m. ET 7/20/17.

Docket Numbers: ER17-1939-000.

Applicants: Southern California Edison Company.

Description: § 205(d) Rate Filing: Amended GIA CTV Power Purchase Contract Trust Project SA No. 881 to be effective 6/30/2017.

Filed Date: 6/29/17.

Accession Number: 20170629-5005.

Comments Due: 5 p.m. ET 7/20/17.

Docket Numbers: ER17-1940-000.

Applicants: Midcontinent Independent System Operator, Inc., Otter Tail Power Company.

Description: § 205(d) Rate Filing: 2017-06-29_SA 3018 OTP-MPC T-T (T16-03) to be effective 8/29/2017.

Filed Date: 6/29/17.

Accession Number: 20170629-5009.

Comments Due: 5 p.m. ET 7/20/17.

Docket Numbers: ER17-1941-000.

Applicants: AEP Texas Central Company.

Description: Tariff Cancellation: AEP Texas Central TCC RS and SA Baseline Cancellation to be effective 6/30/2017.

Filed Date: 6/29/17.

Accession Number: 20170629-5015.

Comments Due: 5 p.m. ET 7/20/17.

Docket Numbers: ER17-1942-000.

Applicants: AEP Texas North Company.

Description: Tariff Cancellation: AEP Texas North OATT Concurrence Cancellation to be effective 6/30/2017.

Filed Date: 6/29/17.

Accession Number: 20170629-5036.

Comments Due: 5 p.m. ET 7/20/17.

Docket Numbers: ER17-1943-000.

Applicants: AEP Texas North Company.

Description: Tariff Cancellation: AEP Texas North RS and SA Baseline Cancellation to be effective 6/30/2017.

Filed Date: 6/29/17.

Accession Number: 20170629-5037.

Comments Due: 5 p.m. ET 7/20/17.

Docket Numbers: ER17-1944-000.

Applicants: AEP Texas Central Company.

Description: Tariff Cancellation: AEP Texas Central OATT Concurrence Cancellation to be effective 6/30/2017.

Filed Date: 6/29/17.

Accession Number: 20170629-5038.

Comments Due: 5 p.m. ET 7/20/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 29, 2017.
Nathaniel J. Davis, Sr.,
Deputy Secretary.

[FR Doc. 2017-14148 Filed 7-5-17; 8:45 am]

BILLING CODE 6717-01-P